DEPARTMENT OF THE INTERIOR

National Park Service

General Management Plan/Environmental Impact Statement, Harpers Ferry National Historical Park, West Virginia, Virginia, and Maryland

AGENCY: National Park Service, Department of the Interior.

ACTION: Notice of Intent to prepare an environmental impact statement for the general management plan, Harpers Ferry National Historical Park.

SUMMARY: Under the provisions of the National Environmental Policy Act, the National Park Service is preparing an environmental impact statement for the general management plan for Harpers Ferry National Historical Park. The Regional Director, National Capital Region, will approve the environmental impact statement.

Harpers Ferry National Historical Park is in Jefferson County, West Virginia; Loudoun County, Virginia; and Washington County, Maryland. The park was authorized by Congress in June 1944. Congress charged the National Park Service with managing the site as “a public national memorial commemorating historical events at or near Harpers Ferry.” The enabling legislation also states that the Director of the National Park Service “shall maintain and preserve it for the benefit and enjoyment of the people of the United States, subject to the provisions of the [NPS Organic Act].”

The general management plan will prescribe the resource conditions and visitor experiences that are to be achieved and maintained in the park over the next 15 to 20 years. The clarification of what must be achieved according to law and policy will be based on review of the park's purpose, significance, special mandates, and the body of law and policies directing park management. Management decisions to be made where law, policy, or regulations do not provide clear guidance or limits will be based on the purposes of the park; the range of public expectations and concerns; resource analysis; an evaluation of the natural, cultural, and social impacts of alternative courses of action; and consideration of long-term economic costs. Based on determinations of desired conditions, the general management plan will outline the kinds of resource management activities, visitor activities, land acquisition and development that would be appropriate in the park in the future. Alternatives will be developed through this planning process and will include, at a minimum, no-action and the preferred alternative.

Major issues include protection and interpretation of natural and cultural resources, adaptive re-use of historic structures, quality of visitor experience, land acquisition, and potential partnerships with other agencies, organizations, and local interests.

DATES: The National Park Service will conduct public scoping for 60 days from the date of publication of this notice in the Federal Register. Open meetings regarding the general management plan will be held during the public scoping period. Specific dates, times, and locations will be made available in the local media, on the Harpers Ferry National Historical Park Web site (http://www.nps.gov/hafe), or by contacting the Superintendent.

ADDRESSES: Throughout the scoping and planning process, information will be available for public review and comment in the office of the superintendent (Donald Campbell, Harpers Ferry National Historical Park, PO Box 65, Harpers Ferry, WV 25425).

FOR FURTHER INFORMATION CONTACT: Superintendent Donald Campbell, Harpers Ferry National Historical Park, PO Box 65, Harpers Ferry, WV 25425; Tel: (304) 535-6224; FAX: (304) 535-4022.

SUPPLEMENTARY INFORMATION: If you wish to comment on the general management planning process for Harpers Ferry National Historical Park, or on any issues associated with the plan, you may submit your comments by any one of several methods. You may mail comments to Superintendent Donald Campbell, Harpers Ferry National Historical Park, PO Box 65, Harpers Ferry, WV 25425. You may also e-mail comments to the Superintendent's Office at Judy_Coleman@nps.gov. Finally, you may hand-deliver comments to the Harpers Ferry Visitor Center (off U.S. Highway 340). Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations, businesses, or individuals identifying themselves as representatives or officials of organizations or businesses, available for public inspection in their entirety.

Dated: June 13, 2003.
Terry Carlstrom,
Regional Director, National Capital Region.

[FR Doc. 03-21972 Filed 8-27-03; 8:45 am]

BILLING CODE 4310-71-P